DEPARTMENT OF ENERGY

Federal Energy Regulatory Commission

[Docket No. RP03-226-001]

Kern River Gas Transmission Company; Notice of Compliance Filing

February 20, 2003.

Take notice that on February 11, 2003, Kern River Gas Transmission Company (Kern River) tendered for filing as part of its FERC Gas Tariff, Second Revised Volume No. 1, Substitute Third Revised Sheet No. 490, to be effective February 1, 2003.

Kern River states that the purpose of this filing is to comply with the Commission's order in this proceeding by removing a non-conforming provision from two seasonal firm transportation service agreements between Kern River and Duke Energy Trading & Marketing, L.L.C. and from one seasonal firm transportation service agreement between Kern River and National Fuel Marketing Company, LLC, thereby eliminating the need to list such agreements as non-conforming agreements in Kern River's tariff.

Kern River states that it has served a copy of this filing upon each person designated on the official service list compiled by the Secretary in this proceeding.

Any person desiring to protest said filing should file a protest with the Federal Energy Regulatory Commission, 888 First Street, NE., Washington, DC 20426, in accordance with section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: February 24, 2003.

Magalie R. Salas,
Secretary.

[FR Doc. 03-4466 Filed 2-25-03; 8:45 am]

BILLING CODE 6717-01-P